CONSUMER PRODUCT SAFETY COMMISSION

16 CFR Part 1205

[Docket No. CPSC-2019-0007]

Petition Requesting Rulemaking To Amend Safety Standard for Walk-Behind Power Lawn Mowers

AGENCY: Consumer Product Safety Commission.

ACTION: Proposed rule.

SUMMARY: The U.S. Consumer Product Safety Commission (CPSC) received a petition from the Outdoor Power Equipment Industry (petitioner, or OPEI), requesting a revision to the warning label requirement for the Safety Standard for Walk-Behind Power Lawn Mowers. The CPSC invites written comments concerning this petition.

DATES: Submit comments by June 10, 2019.

ADDRESSES: Submit comments, identified by Docket No. CPSC-2019-0007, by any of the following methods:

Electronic Submissions: Submit electronic comments to the Federal eRulemaking Portal at: http://www.regulations.gov. Follow the instructions for submitting comments. The CPSC does not accept comments submitted by electronic mail (email), except through www.regulations.gov. The CPSC encourages you to submit electronic comments by using the Federal eRulemaking Portal, as described above.

Written Submissions: Submit written comments by mail/hand delivery/courier to: Division of the Secretariat, Consumer Product Safety Commission, Room 820, 4330 East West Highway, Bethesda, MD 20814; telephone (301) 504-7923.

Instructions: All submissions received must include the agency name and docket number for this notice. All comments received may be posted without change to http://www.regulations.gov, including any personal identifiers, contact information, or other personal information provided. Do not submit confidential business information, trade secret information, or other sensitive or protected information that you do not want to be available to the public. If furnished at all, such information should be submitted by mail/hand delivery/courier.

Docket: For access to the docket to read background documents or comments received, go to: http://www.regulations.gov, insert docket number CPSC-2019-0007 into the “Search” box, and follow the prompts.

FOR FURTHER INFORMATION CONTACT: Rocky Hammond, Division of the Secretariat, Consumer Product Safety Commission, 4330 East West Highway, Bethesda, MD 20814; telephone: 301-504-6833; email: RHammond@cpsc.gov.

SUPPLEMENTARY INFORMATION: On February 19, 2019, OPEI submitted a petition to the CPSC to initiate rulemaking to revise the warning requirement for the Safety Standard for Walk-Behind Power Lawn Mowers codified at 16 CFR part 1205 (CPSC standard). Specifically, OPEI requests that the Commission amend the CPSC standard to allow for a pictorial-only warning as an alternative to the warning label for reel-type and rotary power mowers required by 16 CFR 1205.6(a) (Figure 7). According to OPEI, a pictorial-only warning will help provide consumers with understandable, non-language warnings to improve consumer safety and also modernize and globally harmonize the warning for all consumers. OPEI contends that the petition seeks a limited, non-material change to the CPSC standard.

By this notice, CPSC seeks comments concerning this petition. The petition is available at: http://www.regulations.gov, under Docket No. CPSC-2019-0007, Supporting and Related Materials. Alternatively, interested parties may obtain a copy of the petition by writing or calling the Division of the Secretariat, Consumer Product Safety Commission, 4330 East West Highway, Bethesda, MD 20814; telephone (301) 504-6833.

Alberta E. Mills,
Secretary, Consumer Product Safety Commission.

[FR Doc. 2019-06841 Filed 4-8-19; 8:45 am]

BILLING CODE 6355-01-P